DEPARTMENT OF HEALTH AND HUMAN SERVICES

Centers for Disease Control and Prevention

Prospective Grant of Exclusive License: Various Retrovirus Isolated From Humans

AGENCY: Technology Transfer Office, Centers for Disease Control and Prevention (CDC), Department of Health and Human Services.

ACTION: Notice.

SUMMARY: This is a notice in accordance with 35 U.S.C. 209 (e)and 37 CFR 404.7(a)(1)(i) that the Centers for Disease Control and Prevention (CDC), Technology Transfer Office, Department of Health and Human Services (DHHS), is contemplating the grant of a worldwide exclusive license to practice the inventions embodied in the patents and patent applications referred to below to Antibody Systems, Inc., located in Hurst, Texas. The patent rights in these inventions have been assigned to the government of the United States of America. The patents and patent applications to be licensed are:

Title: Retrovirus Isolated from Humans, U.S. Patent No. 5,882,912. Issue Date: 03/16/99. CDC Reference No. I-012-97/0; New Spumavirus Isolated form Humans, U.S. Patent Application PCT/US98/02598 dated 2/12/98. CDC Reference No. I-012-97/1; Spumavirus Isolated from Humans, U.S. Patent Application 09/367,213 dated 12/08/1999. CDC Reference No. I-012-97/2; New Retrovirus Isolated from Humans, U.S. Patent Application PCT/US01/51411 dated 10.19.2001. CDC Reference No. I-023-00/0 Spumavirus Isolated from Humans, U.S. Patent Application PCT/US99/25171 dated 10/27/99. CDC Reference No. I-034-97/0; Spumavirus Isolated from Humans, U.S. Patent Application Serial No. 09/830,616 filed 9/05/01. CDC Reference No. I-034-97/1;

The prospective exclusive license will be royalty-bearing and will comply with the terms and conditions of 35 U.S.C. 209 and 37 CFR 404.7.

These inventions cover unique spumavirus isolates and clones from infected humans, and an infectious spumavirus vector. Licensee will further development this technology to assess this vector's suitability for gene therapy applications, attenuated vaccines, and use as a stable replicating viral vector.

ADDRESSES: Requests for a copy of the patent applications, inquiries, comments, and other materials relating to the contemplated license should be directed to Andrew Watkins, Director, Technology Transfer Office, Centers for Disease Control and Prevention (CDC), 4770 Buford Highway, Mailstop K-79, Atlanta, GA 30341, telephone: (770) 488-8600; facsimile: (770) 488-8615. Applications for a license filed in response to this notice will be treated as objections to the grant of the contemplated license. Only written comments and/or applications for a license which are received by CDC within sixty days of this notice will be considered. Comments and objections submitted in response to this notice will not be made available for public inspection, and, to the extent permitted by law, will not be released under the Freedom of Information Act, 5 U.S.C. 552. A signed Confidential Disclosure Agreement will be required to receive a copy of any pending patent application.

Dated: August 2, 2002.
Joseph R. Carter,
Associate Director for Management and Operations, Centers for Disease Control and Prevention (CDC).

[FR Doc. 02-20039 Filed 8-7-02; 8:45 am]

BILLING CODE 4163-18-P